DEPARTMENT OF ENERGY

Federal Energy Regulatory Commission

[Docket No. CP23-375-000]

Elba Liquefaction Company, LLC and Southern LNG Company, LLC; Notice of Schedule for the Preparation of an Environmental Assessment for the Proposed Elba Liquefaction Optimization Project

On April 28, 2023, Elba Liquefaction Company, LLC and Southern LNG Company, LLC (Companies) filed an application in Docket No. CP23-375-000 requesting an Authorization pursuant to section 3 of the Natural Gas Act to amend existing authorizations under CP14-103-000, originally approved by the Commission on June 1, 2016.¹ The proposed project is known as the Elba Liquefaction Optimization Project (Project), and would involve new installations and modifications to existing liquefaction facilities at Southern LNG Company, LLC's existing liquefied natural gas (LNG) terminal in Chatham County, Georgia.

¹ Elba Liquefaction Company, L.L.C., 155 FERC ¶ 61,219, (2016).

On May 10, 2023, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.²

² 40 CFR 1501.10 (2020).

Schedule for Environmental Review

Issuance of EA—March 8, 2024

90-day Federal Authorization Decision Deadline ³—June 6, 2024

³ The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

The Companies propose to amend its June 1, 2016 Order (2016 Order) to modify certain Movable Modular Liquefaction System (MMLS) Dehydration and Heavies Removal units that would reduce the fouling rate in the liquefaction units, reduce the resultant flaring events associated with cold box deriming, and therefore allow the MMLS to operate in an optimized condition for longer periods of time without fouling within the existing Elba Island LNG terminal in Chatham County, Georgia. Specifically, the Companies would make modifications to ten MMLS units; construct and operate a new condensate plant; install three new liquid nitrogen vaporizers; and increase the total liquefaction capacity of the MMLS units up approximately 0.4 million tonnes per annum (MTPA) from 2.5 to 2.9 MTPA.

Background

On June 9, 2023, the Commission issued a Notice of Scoping Period Requesting Comments on Environmental Issues for the Proposed Elba Liquefaction Optimization Project (Notice of Scoping). The Notice of Scoping was sent to affected landowners; federal, state, and local government agencies; elected officials; environmental and public interest groups; Native American tribes; other interested parties; and local libraries and newspapers. In response to the Notice of Scoping, the Commission received comments from the National Park Service and the U.S. Fish and Wildlife Service, citing concerns regarding impacts to noise sensitive areas, cultural landscapes, and endangered species from additional facility lighting and increased noise.

All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP23-375), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 9, 2023.
Kimberly D. Bose,
Secretary.

[FR Doc. 2023-17468 Filed 8-14-23; 8:45 am]

BILLING CODE 6717-01-P